DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. 35). To request a copy of these documents, call the SAMHSA Reports Clearance Officer on (240) 276-1243.

Project: Networking Suicide Prevention Hotlines—Evaluation of the Lifeline Policies for Helping Callers at Imminent Risk (OMB No. 0930-0333)—REVISION

The Substance Abuse and Mental Health Services Administration's (SAMHSA), Center for Mental Health Services (CMHS) funds a National Suicide Prevention Lifeline Network (“Lifeline”), consisting of a toll-free telephone number that routes calls from anywhere in the United States to a network of local crisis centers. In turn, the local centers link callers to local emergency, mental health, and social service resources. This project is a revision of the Evaluation of Lifeline Policies for Helping Callers at Risk and builds on previously approved data collection activities [Evaluation of Networking Suicide Prevention Hotlines Follow-Up Assessment (OMB No. 0930-0274) and Call Monitoring of National Suicide Prevention Lifeline Form (OMB No. 0930-0275)]. The extension and revision data collection is an effort to advance the understanding of crisis hotline utilization and its impact.

The overarching purpose of the proposed Evaluation of the Lifeline Policies for Helping Callers at Imminent Risk is to implement data collection to evaluate hotline counselors' management of imminent risk callers and third party callers concerned about persons at imminent risk, and counselor adherence to Lifeline Policies and Guidelines for Helping Callers at Imminent Risk of Suicide. Specifically, the Evaluation of the Lifeline Policies for Helping Callers at Imminent Risk will collect data, using a revised imminent risk form, to inform the network's knowledge of the extent to which counselors are aware of and being guided by the Lifeline's imminent risk guidelines; counselors' definitions of imminent risk; the rates of active rescue of imminent risk callers; types of rescue (voluntary or involuntary); barriers to intervention; circumstances in which active rescue is initiated, including the caller's agreement to receive the intervention, profile of imminent risk callers; and the types of interventions counselors used with them.

Approval is being requested for one activity to assess the knowledge, actions, and practices of counselors to aid callers who are determined to be at imminent risk for suicide and who may require active rescue. This evaluation will allow researchers to examine and understand the actions taken by counselors to aid imminent risk callers, the need for active rescue, the types of interventions used, and, ultimately, improve the delivery of crisis hotline services to imminent risk callers. A total of eight new centers will participate in this evaluation. Thus, SAMHSA is requesting OMB review and approval of the National Suicide Prevention Lifeline—Imminent Risk Form-Revised.

Crisis counselors at eight new participating centers will record information discussed with imminent risk callers on the Imminent Risk Form-Revised, which does not require direct data collection from callers. As with previously approved evaluations, callers will maintain anonymity. Counselors will be asked to complete the form for 100% of imminent risk callers to the eight centers participating in the evaluation. This form requests information in 15 content areas, each with multiple sub-items and response options. Response options include open-ended, yes/no, Likert-type ratings, and multiple choice/check all that apply. The form also requests demographic information on the caller, the identification of the center and counselor submitting the form, and the date of the call. Specifically, the form is divided into the following sections: (1) Counselor information, (2) center information, (3) call characteristics (e.g., line called, language spoken, participation of third party), (4) suicidal desire, (5) suicidal intent, (6) suicidal capability, (7) buffers to suicide, (8) interventions agreed to by caller or implemented by counselor without caller's consent, (9) whether imminent risk was reduced enough such that active rescue was not needed, (10) interventions for third party callers calling about a person at imminent risk, (11) whether supervisory consultation occurred during or after the call, (12) barriers to getting needed help to the person at imminent risk, (13) steps taken to confirm whether emergency contact was made with person at risk, (14) outcome of attempts to rescue person at risk, and (15) outcome of attempts to follow-up on the case. The revised form reduces and streamlines responses options for intervention questions. It also adds information about the center, the call (e.g., language and military service), interventions (e.g., supervisor contact, rescue initiation), and follow-up/outcome. The form will take approximately 15 minutes to complete and may be completed by the counselor during or after the call. It is expected that a total of 750 forms will be completed by 132 counselors over the three-year data collection period.

The estimated response burden to collect this information is annualized over the requested three-year clearance period and is presented below:

Total and Annualized Burden: Respondents, Responses and Hours
Instrument | Number of respondents | Responses per respondent | Total responses | Hours per response | Total hour burden
Imminent Risk Form | 132 | 1.9 | 250 | .26 | 65

Written comments and recommendations concerning the proposed information collection should be sent by January 28, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2014-30290 Filed 12-24-14; 8:45 am]

BILLING CODE 4162-20-P